GULF COAST ECOSYSTEM RESTORATION COUNCIL

[Docket No.: 104172017-1111-12]

Proposed Amendment to Initial Funded Priorities List

AGENCY: Gulf Coast Ecosystem Restoration Council.

ACTION: Proposed amendment to Initial Funded Priorities List.

SUMMARY: The Gulf Coast Ecosystem Restoration Council (Council) seeks public and Tribal comment on a proposal to amend its Initial Funded Priorities List (FPL) to approve implementation funding for support of the Tampa Bay Estuary Program (TBEP) restoration project elements sponsored by the U.S. Environmental Protection Agency (EPA). The Council is proposing to approve $1,444,960 in implementation funding for the TBEP project elements. The Council is also proposing to reallocate $100,000 from planning to implementation.

DATES: Comments on this proposed amendment are due May 19, 2017.

ADDRESSES: Comments on this proposed amendment may be submitted as follows:

By Email: Submit comments by email to frcomments@restorethegulf.gov. Email submission of comments ensures timely receipt and enables the Council to make them available to the public. In general, the Council will make such comments available for public inspection and copying on its Web site, www.restorethegulf.gov, without change, including any business or personal information provided, such as names, addresses, email addresses and telephone numbers. All comments received, including attachments and other supporting materials, will be part of the public record and subject to public disclosure. You should only submit information that you wish to make publicly available.

By Mail: Send comments to Gulf Coast Ecosystem Restoration Council, 500 Poydras Street, Suite 1117, New Orleans, LA 70130.

FOR FURTHER INFORMATION CONTACT: Please send questions by email to frcomments@restorethegulf.gov or contact John Ettinger at (504) 444-3522.

SUPPLEMENTARY INFORMATION:

I. Background

The Deepwater Horizon oil spill led to passage of the Resources and Ecosystems Sustainability, Tourist Opportunities, and Revived Economies of the Gulf Coast States Act of 2012 (RESTORE Act) (33 U.S.C. 1321(t) and note), which dedicates 80 percent of all Clean Water Act administrative and civil penalties related to the oil spill to the Gulf Coast Restoration Trust Fund (Trust Fund). The RESTORE Act also created the Council, an independent Federal entity comprised of the five Gulf Coast states and six Federal agencies. Among other responsibilities, the Council administers a portion of the Trust Fund known as the Council-Selected Restoration Component in order to “undertake projects and programs, using the best available science, that would restore and protect the natural resources, ecosystems, fisheries, marine and wildlife habitats, beaches, coastal wetlands, and economy of the Gulf Coast.” Additional information on the Council can be found here: https://www.restorethegulf.gov.

On December 9, 2015, the Council approved the FPL, which includes projects and programs approved for funding under the Council-Selected Restoration Component, along with other activities the Council identified as priorities for potential future funding. Activities approved for funding in the FPL are included in “Category 1;” the priorities for potential future funding are in “Category 2.” In the FPL the Council approved approximately $156.6 million in Category 1 restoration and planning activities, and prioritized twelve Category 2 activities for possible funding in the future, subject to environmental compliance and further Council and public review. The Council included planning activities for the TBEP project elements in Category 1 and implementation activities for the TBEP project elements in Category 2.

The Council reserved approximately $26.6 million for implementing priority activities in the future. These reserved funds may be used to support some, all or none of the activities included in Category 2 of the FPL and/or to support other activities not currently under consideration by the Council. As appropriate, the Council intends to review each activity in Category 2 in order to determine whether to: (1) Move the activity to Category 1 and approve it for funding, (2) remove it from Category 2 and any further consideration, or (3) continue to include it in Category 2. A Council decision to amend the FPL to move an activity from Category 2 into Category 1 must be approved by a Council vote after consideration of public and Tribal comments.

The total amount available for implementation of the TBEP project elements would be $1,544,960. These funds would be used to implement five coastal restoration elements within the TBEP's watershed boundary: (1) Ft De Soto Recirculation and Seagrass Recovery Project; (2) St. Petersburg Biosolids to Energy Project; (3) Robinson Preserve Expansion Project; (4) Hillsborough County Parks Coastal Invasive Plant Removal Project; and (5) Copeland Park Pond Restoration Project.

Pursuant to Section 511(c) of the Clean Water Act, certain EPA actions are statutorily exempt from the National Environmental Policy Act (NEPA). The EPA has provided the Council with documentation confirming that the five elements listed above fall within this NEPA exemption. This documentation also contains information demonstrating compliance with other applicable laws, including the Endangered Species Act, National Historic Preservation Act and the Magnuson-Stevens Act. The EPA would be required to adhere to all applicable terms and conditions contained in this compliance documentation. The Council therefore proposes to rely on the EPA's statutory exemption in accordance with Section 4(h) of the Council's NEPA Procedures (80 FR 25680 (May 5, 2015)) (NEPA Procedures).

II. Environmental Compliance

Prior to approving an activity for funding in FPL Category 1, the Council must comply with NEPA (unless the given activity is exempt from NEPA) and other applicable Federal environmental laws. At the time of approval of the FPL, the Council had not fully addressed the environmental laws applicable to implementation of the TBEP project elements. The Council did, however, recognize the potential ecological value of the TBEP project elements, based on a review conducted during the FPL process. For this reason, the Council approved $100,000 in planning funds for the TBEP, a portion of which would be used to complete any needed environmental compliance activities. As noted above, the Council placed the implementation portion of the TBEP project elements into FPL Category 2, pending the outcome of this environmental compliance work and further Council review.

The estimated cost of implementation activities for the TBEP was $2,000,000, including the five restoration elements listed above, as well as two other elements that are not included in this proposed approval of implementation funding (i.e., the Palm River Restoration Project Phase II, East McKay Bay and Coopers Point Water Quality Improvement). In a separate Federal Register notice, issued March 17, 2017, the Council proposed approving implementation funding for Palm River Restoration Project Phase II, East McKay Bay, with Florida as the sponsor. The EPA continues to work on design, engineering and environmental compliance for Coopers Point Water Quality Improvement project element, and anticipates seeking Council approval of implementation funding for it at a later date.

Section 4(h) of the Council's NEPA Procedures provides:

“(h) Actions Exempt from the Requirements of NEPA. Certain Council Actions may be covered by a statutory exemption under existing law. The Council will document its use of such an exemption pursuant to applicable requirements.”

In accordance with the above provision, the Council is proposing to rely upon the EPA's statutory NEPA exemption in association with approval of implementation funding for the following five TBEP elements: (1) Ft De Soto Recirculation and Seagrass Recovery Project; (2) St. Petersburg Biosolids to Energy Project; (3) Robinson Preserve Expansion Project; (4) Hillsborough County Parks Coastal Invasive Plant Removal Project; and (5) Copeland Park Pond Restoration Project.

The EPA has provided the Council with documentation confirming that the five elements listed above fall within the EPA's statutory NEPA exemption. This documentation also contains information demonstrating compliance with other applicable laws, including the Endangered Species Act, National Historic Preservation Act and the Magnuson-Stevens Act. The EPA would be required to adhere to all applicable terms and conditions contained in this documentation.

The Council's reliance upon the EPA's statutory NEPA exemption does not in any way alter the Council's or the EPA's obligation to comply with other applicable laws.

The Council has reviewed the environmental compliance documentation provided by the EPA and has found that it addresses the laws applicable to Council approval of funding under the Council-Selected Restoration Component. Information on the NEPA statutory exemption and the associated documentation can be found here: https://www.restorethegulf.gov/funded-priorities-list. (See: Tampa Bay Estuary Program—Implementation.)

TBEP Restoration Elements

If approved for funding, the five TBEP restoration elements are expected to result in the following environmental benefits: An estimated reduction of 5,147 tons/year greenhouse gas (GHG) emissions associated with the Biosolids to Energy element; 14.8 acres of coastal upland habitat created or restored at Robinson Preserve, including approximately 4.42 acres of live oak hammock; 4.64 acres of pine flatwoods; 2.9 acres of coastal shrub; and 2.81 acres of coastal hammock; Hillsborough County Parks Coastal Invasive Plant Removal Project: Invasive plants removed on approximately 650 acres near Cockroach Bay; Circulation modeling, monitoring, and an estimated 200 acres of seagrass habitat enhanced or created at Fort DeSoto Park; and Shoreline restoration, littoral shelf development, and open water habitat restoration on a 1.83 acre pond at Copeland Park.

If approved for implementation funding, the five TBEP restoration elements are expected to result in approximately 664 acres of coastal habitat restored or enhanced and 200 acres of seagrass enhanced or created. Habitat restoration activities include exotics removal; tidal exchange restoration; and sheet flow restoration. Additionally, an estimated 5,147 tons of greenhouse gas (GHG) emissions per year would be reduced, providing added climate change resiliency. GHG emissions reductions result from switching from fuel to biogas for municipal vehicles. Habitat restored, enhanced or created include: 200 acres of seagrass, 650 acres of coastal wetlands, 14 acres of coastal uplands, and 1.8 acres of freshwater wetlands. Habitat restoration includes invasive removal, sediment contouring, and native plantings.

Additional information on the TBEP restoration elements, including metrics of success, response to science reviews and more is available in an activity-specific appendix to the FPL, which can be found at https://www.restorethegulf.gov. (Please see the table on page 25 of the FPL and click on: Tampa Bay Estuary Program, Implementation.)

Will D. Spoon,
Program Analyst, Gulf Coast Ecosystem Restoration Council.

[FR Doc. 2017-07720 Filed 4-18-17; 8:45 am]

BILLING CODE 6560-58-P